COMMITTEE FOR PURCHASE FROM PEOPLE WHO ARE BLIND OR SEVERELY DISABLED

Procurement List; Proposed Additions

AGENCY: Committee for Purchase from People Who Are Blind or Severely Disabled.

ACTION: Proposed additions to procurement list.

SUMMARY: The Committee is proposing to add to the Procurement List products and services to be furnished by nonprofit agencies employing persons who are blind or have other severe disabilities.

Comments Must Be Received On or Before: June 15, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments of the proposed actions. If the Committee approves the proposed additions, the entities of the Federal Government identified in the notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: Supply Cup 7510-00-161-6211

NPA: The Lighthouse for the Blind in New Orleans, New Orleans, Louisiana

Contract Activity: Office Supplies & Paper Products Acquisition Center, New York, New York

Product/NSN: Tape Refill w/American Flag on the core 7520-00-NIB-1579

NPA: The Lighthouse for the Blind in New Orleans, New Orleans, Louisiana

Contract Activity: Office Supplies & Paper Products Acquisition Center, New York, New York

Services

Service Type/Location: Custodial Service

GSA Leased Space for the Internal Revenue Service, Bronx, New York

NPA: Goodwill Industries of Greater New York and Northern New Jersey, Inc.

Astoria, New York

Contract Activity: GSA, Property Management Center, New York, New York

Service Type/Location: Janitorial/Custodial

U.S. Army Reserve Center, Calle Lee, Los Alamitos, California

NPA: Lincoln Training Center and Rehabilitation Workshop, South El Monte, California

Contract Activity: 63rd Regional Support Command, Los Alamitos, California

Service Type/Location: Janitorial/Custodial

U.S. Army Reserve Center, Garden Grove, Garden Grove, California

NPA: Lincoln Training Center and Rehabilitation Workshop, South El Monte, California

Contract Activity: 63rd Regional Support Command, Los Alamitos, California

Service Type/Location: Janitorial/Custodial

U.S. Army Reserve Center, Eau Claire, Wisconsin

NPA: L.E. Phillips Career Development Center, Inc., Eau Claire, Wisconsin

Contract Activity: Headquarters, 88th Regional Support Command, Fort Snelling, Minnesota

Service Type/Location: Janitorial/Custodial

U.S. Army Reserve Center, Fairmont, West Virginia

U.S. Army Reserve Center, Grafton, West Virginia

U.S. Army Reserve Center, New Martinsville, West Virginia

NPA: PACE Training and Evaluation Center, Inc., Star City, West Virginia

Contract Activity: 99th Regional Support Command, Coraopolis, Pennsylvania

Service Type/Location: Janitorial/Custodial

U.S. Army Reserve Center, Walker, Michigan

NPA: Hope Network Services Corporation, Grand Rapids, Michigan

Contract Activity: Headquarters, 88th Regional Support Command, Fort Snelling, Minnesota

Service Type/Location: Receiving, Shipping, Handling & Custodial Service

Brunswick Naval Air Station, Topsham, Maine

NPA: Pathways, Inc., Auburn, Maine

Contract Activity: Defense Commissary Agency (DeCA), Ft. Lee, Virginia

Sheryl D. Kennerly,
Director, Information Management.

[FR Doc. 03-12289 Filed 5-15-03; 8:45 am]

BILLING CODE 6353-01-P